DEPARTMENT OF HOMELAND SECURITY

Coast Guard

[Docket No. USCG-2024-0240]

National Chemical Transportation Safety Advisory Committee; Vacancies

AGENCY: United States Coast Guard, Department of Homeland Security.

ACTION: Notice; request for applications.

SUMMARY: The U.S. Coast Guard is accepting applications to fill six vacancies on the National Chemical Transportation Safety Advisory Committee (Committee). This Committee advises the Secretary of Homeland Security, via the Commandant of the U.S. Coast Guard on matters relating to the safe and secure marine transportation of hazardous materials.

DATES: Completed applications must reach the U.S. Coast Guard on or before June 3, 2024.

ADDRESSES: Applications must include: (a) a cover letter expressing interest in an appointment to the National Chemical Transportation Safety Advisory Committee, (b) a resume detailing the applicant's relevant experience for the position applied for, and (c) a brief biography. Applications should be submitted via email with subject line “NCTSAC Vacancy Application” to Ethan.T.Beard@uscg.mil.

FOR FURTHER INFORMATION CONTACT: Lieutenant Ethan Beard, Assistant Designated Federal Officer of the National Chemical Transportation Safety Advisory Committee; telephone 571-607-8905 or email at Ethan.T.Beard@uscg.mil.

SUPPLEMENTARY INFORMATION: The National Chemical Transportation Safety Advisory Committee is a Federal advisory committee. The National Chemical Transportation Safety Advisory Committee was established by section 601 of the Frank LoBiondo Coast Guard Authorization Act of 2018 (Pub. L. 115-282, 132 Stat. 4192), and is codified in 46 U.S.C. 15101. The Committee operates under the provisions of the Federal Advisory Committee Act (5 U.S.C. ch. 10) and 46 U.S.C. 15109. The Committee provides advice and recommendations to the Secretary of Homeland Security on matters relating to the safe and secure marine transportation of hazardous materials.

The Committee is required to meet at least once a year in accordance with 46 U.S.C. 15109(a)(1). We expect the Committee to meet at least twice a year, but it may meet more frequently. The meetings are generally held in Washington, DC and Houston, Texas.

Under 46 U.S.C. 15109(f)(6)(A), if you are appointed as a member of the Committee, your membership term will expire on December 31st of the third full year after the effective date of your appointment. In accordance with 46 U.S.C. 15109(f)(4), applicants for membership may be required to pass an appropriate security background examination before their appointment to the Committee.

All members serve at their own expense and receive no salary or other compensation from the Federal Government. If you are appointed as member of the Committee, you will be required to sign a Non-Disclosure Agreement and a Gratuitous Services Agreement.

In this solicitation for Committee Members, we will consider applications from members representing the following:

• Chemical manufacturing entities

• Entities related to marine handling or transportation of chemicals

• Marine safety or security entities

• Marine environmental protection entities

The members who will fill the positions described above will be appointed to represent the interest of their respective groups and viewpoints and are not “special Government employees,” as defined in 18 U.S.C. 202(a).

In order for the Department to fully leverage broad-ranging experience and education, the National Chemical Transportation Safety Advisory Committee must be diverse with regard to professional and technical expertise. The Department is committed to pursuing opportunities, consistent with applicable law, to compose a committee that reflects the diversity of the Nation's people.

If you are interested in applying to become a member of the Committee, email your application to Ethan.T.Beard@uscg.mil as provided in the ADDRESSES section of this notice. Applications must include: (a) a cover letter expressing interest in an appointment to the National Chemical Transportation Safety Advisory Committee, (b) a resume detailing the applicant's relevant experience for the position applied for, and (c) a brief biography of the applicant by the deadline in the DATES section of this notice.

The U.S. Coast Guard will not consider incomplete or late applications.

Privacy Act Statement

Purpose: To obtain qualified applicants to fill six vacancies on the National Chemical Transportation Advisory Committee. When you apply for appointment to the National Chemical Transportation Advisory Committee, Department of Homeland Security (DHS) will collect your name, contact information, and any other personal information that you submit in conjunction with your application. DHS will use this information to evaluate your candidacy for Committee membership. If you are chosen to serve as a Committee member, your name will appear in publicly available Committee documents, membership lists, and Committee reports.

Authorities: 14 U.S.C. 504; 46 U.S.C. 15101 and 15109; and 18 U.S.C. 202(a), and Department of Homeland Security Delegation No. 00915.

Routine Uses: Authorized U.S. Coast Guard personnel will use this information to consider and obtain qualified candidates to serve on the Committee. Any external disclosures of information within this record will be made in accordance with DHS/ALL-009, Department of Homeland Security Advisory Committee (73 FR 57642, October 3, 2008).

Consequences of Failure to Provide Information: Furnishing this information is voluntary. However, failure to furnish the requested information may result in your application not being considered for the Committee.

Dated: March 28, 2024.
Jeffrey G. Lantz,
Director of Commercial Regulations and Standards.

[FR Doc. 2024-07050 Filed 4-2-24; 8:45 am]

BILLING CODE 9110-04-P